DEPARTMENT OF THE INTERIOR

Bureau of Land Management

[LLCO956000 L14200000.BJ0000]

Notice of Filing of Plats of Survey; Colorado

AGENCY: Bureau of Land Management, Interior.

ACTION: Notice of filing of plats of survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on December 6, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The field notes of the remonumentation of certain original survey corners in Protracted Township 42 North, Range 5 West, New Mexico Principal Meridian, Colorado, were accepted on September 19, 2012.

The field notes of the remonumentation of a mineral corner in Protracted Township 43 North, Range 5 West, New Mexico Meridian, Colorado, were accepted on September 19, 2012.

The plat incorporating the field notes of the dependent resurvey in Township 16 South, Range 70 West, Sixth Principal Meridian, Colorado, was accepted on September 26, 2012.

The plat incorporating the field notes of the remonumentation of certain corners in Township 6 North, Range 98 West, Sixth Principal Meridian, Colorado, was accepted on October 3, 2012.

The field notes of the remonumentation of certain original survey corners in Township 16 South, Range 71 West, Sixth Principal Meridian, Colorado, were accepted on October 10, 2012.

The supplemental plat of Section 6, in Township 35 North, Range 2 West, New Mexico Principal Meridian, Colorado, was accepted on October 17, 2012.

The plat incorporating the field notes of the corrective dependent resurvey in Township 5 North, Range 91 West, Sixth Principal Meridian, Colorado, was accepted on October 25, 2012.

Randy Bloom,
Chief Cadastral Surveyor for Colorado.

[FR Doc. 2012-27056 Filed 11-5-12; 8:45 am]

BILLING CODE 4310-JB-P